DEPARTMENT OF ENERGY

Federal Energy Regulatory Commission

Combined Notice of Filings #1

Take notice that the Commission received the following electric corporate filings:

Docket Numbers: EC24-43-000.

Applicants: Hunterstown Gen Holdings, LLC.

Description: Joint Application for Authorization Under Section 203 of the Federal Power Act of Hunterstown Gen Holdings, LLC, et. al.

Filed Date: 1/17/24.

Accession Number: 20240117-5193.

Comment Date: 5 p.m. ET 2/7/24.

Take notice that the Commission received the following exempt wholesale generator filings:

Docket Numbers: EG24-83-000.

Applicants: Davis UP Energy Storage LLC.

Description: Davis UP Energy Storage LLC submits Notice of Self-Certification of Exempt Wholesale Generator Status.

Filed Date: 1/18/24.

Accession Number: 20240118-5065.

Comment Date: 5 p.m. ET 2/8/24.

Docket Numbers: EG24-84-000.

Applicants: Frederick Energy Storage LLC.

Description: Frederick Energy Storage LLC submits Notice of Self-Certification of Exempt Wholesale Generator Status.

Filed Date: 1/18/24.

Accession Number: 20240118-5066.

Comment Date: 5 p.m. ET 2/8/24.

Docket Numbers: EG24-85-000.

Applicants: Bromley Energy Storage LLC.

Description: Bromley Energy Storage LLC submits Notice of Self-Certification of Exempt Wholesale Generator Status.

Filed Date: 1/18/24.

Accession Number: 20240118-5068.

Comment Date: 5 p.m. ET 2/8/24.

Docket Numbers: EG24-86-000.

Applicants: Keenesburg Energy Storage LLC.

Description: Keenesburg Energy Storage LLC submits Notice of Self-Certification of Exempt Wholesale Generator Status.

Filed Date: 1/18/24.

Accession Number: 20240118-5076.

Comment Date: 5 p.m. ET 2/8/24.

Docket Numbers: EG24-87-000.

Applicants: Mead Energy Storage LLC.

Description: Mead Energy Storage LLC submits Notice of Self-Certification of Exempt Wholesale Generator Status.

Filed Date: 1/18/24.

Accession Number: 20240118-5104.

Comment Date: 5 p.m. ET 2/8/24.

Docket Numbers: EG24-88-000.

Applicants: Parkway Energy Storage LLC.

Description: Parkway Energy Storage LLC submits Notice of Self-Certification of Exempt Wholesale Generator Status.

Filed Date: 1/18/24.

Accession Number: 20240118-5106.

Comment Date: 5 p.m. ET 2/8/24.

Docket Numbers: EG24-89-000.

Applicants: Platte Valley Energy Storage LLC.

Description: Platte Valley Energy Storage LLC submits Notice of Self-Certification of Exempt Wholesale Generator Status.

Filed Date: 1/18/24.

Accession Number: 20240118-5107.

Comment Date: 5 p.m. ET 2/8/24.

Docket Numbers: EG24-90-000.

Applicants: Rattlesnake Ridge Energy Storage LLC.

Description: Rattlesnake Ridge Energy Storage LLC submits Notice of Self-Certification of Exempt Wholesale Generator Status.

Filed Date: 1/18/24.

Accession Number: 20240118-5108.

Comment Date: 5 p.m. ET 2/8/24.

Take notice that the Commission received the following Complaints and Compliance filings in EL Dockets:

Docket Numbers: EL24-54-000.

Applicants: Karen Schedler, Jeremy Helms, and Vote Solar.

Description: Petition for Enforcement Under the Public Utility Regulatory Policies Act of 1978.

Filed Date: 1/12/24.

Accession Number: 20240112-5029.

Comment Date: 5 p.m. ET 2/2/24.

Take notice that the Commission received the following electric rate filings:

Docket Numbers: ER24-348-001.

Applicants: Alabama Power Company, Georgia Power Company, Mississippi Power Company.

Description: Tariff Amendment: Alabama Power Company submits tariff filing per 35.17(b): Needmore Solar LGIA Deficiency Response to be effective 10/25/2023.

Filed Date: 1/18/24.

Accession Number: 20240118-5075.

Comment Date: 5 p.m. ET 2/8/24.

Docket Numbers: ER24-564-000.

Applicants: VESI 12 LLC.

Description: Supplement to December 6, 2023 VESI 12 LLC tariff filing.

Filed Date: 1/17/24.

Accession Number: 20240117-5195.

Comment Date: 5 p.m. ET 1/31/24.

Docket Numbers: ER24-596-001.

Applicants: PJM Interconnection, L.L.C.

Description: Tariff Amendment: Request to Defer Action on Amendment to WMPA, SA No. 5981; Queue No. AG1-386 to be effective 12/31/9998.

Filed Date: 1/17/24.

Accession Number: 20240117-5160.

Comment Date: 5 p.m. ET 2/7/24.

Docket Numbers: ER24-609-001.

Applicants: PJM Interconnection, L.L.C.

Description: Tariff Amendment: Request to Defer Action on Amendment to WMPA, SA No. 5545; Queue No. AE2-125 to be effective 12/31/9998.

Filed Date: 1/18/24.

Accession Number: 20240118-5092.

Comment Date: 5 p.m. ET 2/8/24.

Docket Numbers: ER24-612-001.

Applicants: PJM Interconnection, L.L.C.

Description: Tariff Amendment: Request to Defer Action on Amendment to WMPA, SA No. 6597; Queue No. AF2-294 to be effective 12/31/9998.

Filed Date: 1/18/24.

Accession Number: 20240118-5093.

Comment Date: 5 p.m. ET 2/8/24.

Docket Numbers: ER24-864-000.

Applicants: Louisville Gas and Electric Company.

Description: Notice of Cancellation of Interchange Agreement of Louisville Gas and Electric Company.

Filed Date: 1/11/24.

Accession Number: 20240111-5213.

Comment Date: 5 p.m. ET 2/1/24.

Docket Numbers: ER24-931-000.

Applicants: PJM Interconnection, L.L.C.

Description: 205(d) Rate Filing: Amended ISA, Service Agreement No. 6740; Queue No. AC1-194 to be effective 3/18/2024.

Filed Date: 1/17/24.

Accession Number: 20240117-5167.

Comment Date: 5 p.m. ET 2/7/24.

Docket Numbers: ER24-932-000.

Applicants: PJM Interconnection, L.L.C.

Description: 205(d) Rate Filing: Amended ISA, Service Agreement No. 3582; NQ-72 to be effective 3/18/2024.

Filed Date: 1/18/24.

Accession Number: 20240118-5061.

Comment Date: 5 p.m. ET 2/8/24.

Docket Numbers: ER24-933-000.

Applicants: Bromley Energy Storage LLC.

Description: Baseline eTariff Filing: Market-Based Rate Application and Request for Expedited Action to be effective 1/19/2024.

Filed Date: 1/18/24.

Accession Number: 20240118-5067.

Comment Date: 5 p.m. ET 2/8/24.

Docket Numbers: ER24-934-000.

Applicants: Davis UP Energy Storage LLC.

Description: Baseline eTariff Filing: Market-Based Rate Application and Request for Expedited Action to be effective 1/19/2024.

Filed Date: 1/18/24.

Accession Number: 20240118-5069.

Comment Date: 5 p.m. ET 2/8/24.

Docket Numbers: ER24-935-000.

Applicants: Frederick Energy Storage LLC.

Description: Baseline eTariff Filing: Market-Based Rate Application and Request for Expedited Action to be effective 1/19/2024.

Filed Date: 1/18/24.

Accession Number: 20240118-5071.

Comment Date: 5 p.m. ET 2/8/24.

Docket Numbers: ER24-936-000.

Applicants: Keenesburg Energy Storage LLC.

Description: Baseline eTariff Filing: Market-Based Rate Application and Request for Expedited Action to be effective 1/19/2024.

Filed Date: 1/18/24.

Accession Number: 20240118-5074.

Comment Date: 5 p.m. ET 2/8/24.

Docket Numbers: ER24-937-000.

Applicants: Mead Energy Storage LLC.

Description: Baseline eTariff Filing: Market-Based Rate Application and Request for Expedited Action to be effective 1/19/2024.

Filed Date: 1/18/24.

Accession Number: 20240118-5077.

Comment Date: 5 p.m. ET 2/8/24.

Docket Numbers: ER24-938-000.

Applicants: Parkway Energy Storage LLC.

Description: Baseline eTariff Filing: Market-Based Rate Application and Request for Expedited Action to be effective 1/19/2024.

Filed Date: 1/18/24.

Accession Number: 20240118-5080.

Comment Date: 5 p.m. ET 2/8/24.

Docket Numbers: ER24-939-000.

Applicants: Platte Valley Energy Storage LLC.

Description: Baseline eTariff Filing: Market-Based Rate Application and Request for Expedited Action to be effective 1/19/2024.

Filed Date: 1/18/24.

Accession Number: 20240118-5081.

Comment Date: 5 p.m. ET 2/8/24.

Docket Numbers: ER24-940-000.

Applicants: Rattlesnake Ridge Energy Storage LLC.

Description: Baseline eTariff Filing: Market-Based Rate Application and Request for Expedited Action to be effective 1/19/2024.

Filed Date: 1/18/24.

Accession Number: 20240118-5082.

Comment Date: 5 p.m. ET 2/8/24.

Docket Numbers: ER24-941-000.

Applicants: PJM Interconnection, L.L.C.

Description: 205(d) Rate Filing: Amendment to ISA, Service Agreement No. 3581; NQ-71 to be effective 3/18/2024.

Filed Date: 1/18/24.

Accession Number: 20240118-5132.

Comment Date: 5 p.m. ET 2/8/24.

Docket Numbers: ER24-942-000.

Applicants: Cottontail Solar 4, LLC.

Description: Baseline eTariff Filing: Reactive Power Compensation Baseline Filing to be effective 4/26/2024.

Filed Date: 1/18/24.

Accession Number: 20240118-5134.

Comment Date: 5 p.m. ET 2/8/24.

Docket Numbers: ER24-943-000.

Applicants: Cottontail Solar 5, LLC.

Description: Baseline eTariff Filing: Reactive Power Compensation Baseline Filing to be effective 1/31/2024.

Filed Date: 1/18/24.

Accession Number: 20240118-5145.

Comment Date: 5 p.m. ET 2/8/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 18, 2024.
Debbie-Anne A. Reese,
Acting Secretary.

[FR Doc. 2024-01330 Filed 1-23-24; 8:45 am]

BILLING CODE 6717-01-P